DEPARTMENT OF THE INTERIOR

Fish and Wildlife Service

[FWS-R2-ES-2009-N0003; 20124-11130000-C4]

Endangered and Threatened Wildlife and Plants; 5-Year Reviews of 23 Southwestern Species

AGENCY: Fish and Wildlife Service, Interior.

ACTION: Notice of reviews.

SUMMARY: We, the U.S. Fish and Wildlife Service (Service), announce 5-year reviews of 23 southwestern species listed under the Endangered Species Act of 1973 (Act). The purpose of reviews conducted under this section of the Act is to ensure that the classification of species as threatened or endangered on the List of Endangered and Threatened Wildlife and Plants is accurate. The 5-year review is an assessment of the best scientific and commercial data available at the time of the review.

DATES: To allow adequate time to conduct this review, information submitted for our consideration must be received on or before May 12, 2009. However, we will continue to accept new information about any listed species at any time.

ADDRESSES: You should submit information on these species to the Service at the addresses listed under “Public Comments” in the SUPPLEMENTARY INFORMATION section. We will make information received in response to this notice of review available for public inspection by appointment, during normal business hours, at the same addresses.

FOR FURTHER INFORMATION CONTACT: Contact the appropriate office named in “Public Comments” for species-specific information.

SUPPLEMENTARY INFORMATION:

Why is a 5-year review conducted?

Section 4(c)(2)(A) of the Act (16 U.S.C. 1531 et seq.) requires that we conduct a review of listed species at least once every 5 years. We are then, under section 4(c)(2)(B) and the provisions of subsections (a) and (b), to determine, on the basis of such a review, whether or not any species should be removed (delisted) from the List of Endangered and Threatened Wildlife and Plants (50 CFR 17.12), or reclassified from endangered to threatened (downlisted), or from threatened to endangered (uplisted).

The 5-year review is an assessment of the best scientific and commercial data available at the time of the review. Therefore, we are requesting submission of any new information (best scientific and commercial data) on the following 23 species since their original listings as either endangered (ashy dogweed, Canelo Hills ladies'-tresses, Comanche Springs pupfish, Davis' green pitaya, Gila chub, Gulf Coast jaguarundi, Huachuca water-umbel, Koster's springsnail, Little Aguja (=Creek) pondweed, masked bobwhite (quail), Mexican long-nosed bat, Nellie cory cactus, Noel's amphipod, Pecos assiminea snail, Pecos gambusia, Roswell springsnail, Texas poppy-mallow, and Zapata bladderpod) or threatened (Arkansas River shiner, bunched cory cactus, Chisos Mountains hedgehog cactus, Lloyd's Mariposa cactus, and Navajo sedge). If the present classification of any of these species is not consistent with the best scientific and commercial information available, the Service will recommend whether or not a change is warranted in the Federal classification of that species. Any change in Federal classification would require a separate rulemaking process.

Our regulations at 50 CFR 424.21 require that we publish a notice in the Federal Register announcing those species currently under active review. This notice announces our active review of the 23 species listed in Table 1.

What information is considered in the review?

A 5-year review considers all new information available at the time of the review. These reviews will consider the best scientific and commercial data that has become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List of Endangered and Threatened Wildlife and Plants, and improved analytical methods.

How are these species currently listed?

The List of Endangered and Threatened Wildlife and Plants (List) is found in 50 CFR 17.11 (wildlife) and 17.12 (plants). Amendments to the List through final rules are published in the Federal Register. The List is also available on our internet site at http://www.fws.gov/endangered/wildlife.html. In Table 1 below, we provide a summary of the listing information for the species under active review.

Table 1—Summary of the Listing Information
Common name | Scientific name | Status | Where listed | Final listing rule
Arkansas River shiner | Notropis girardi | T | AR, KS, NM, OK, TX | 63 FR 64771.
ashy dogweed | Thymophylla tephroleuca | E | TX 49 | FR 29232.
bunched cory cactus | Coryphantha ramillosa | T | TX | 44 FR 64247.
Canelo Hills ladies'-tresses | Spiranthes delitescens | E | AZ | 62 FR 665.
Chisos Mountain hedgehog cactus | Echinocereus chisoensis var. chisoensis | T | TX | 53 FR 38453.
Comanche Springs pupfish | Cyprinodon elegans | E | TX | 32 FR 4001.
Davis' green pitaya | Echinocereus viridiflorus var. davisii | E | TX | 44 FR 64738.
Gila chub | Gila intermedia | E | AZ, NM | 70 FR 66663.
Gulf Coast jaguarundi | Herpailurus (=Felis) yagouaroundi cacomitli | E | TX | 41 FR 24062.
Huachuca water-umbel | Lilaeopsis schaffneriana var. recurva | E | AZ | 62 FR 665.
Koster's springsnail | Juturnia kosteri | E | NM | 70 FR 46303.
Little Aguja (=Creek) pondweed | Potamogeton clystocarpus | E | TX | 56 FR 57844.
Lloyd's Mariposa cactus | Echinomastus ariposensis | T | TX | 44 FR 64247.
masked bobwhite (quail) | Colinus virginianus ridgwayi | E | AZ | 32 FR 4001.
Mexican long-nosed bat | Leptonycteris nivalis | E | NM, TX | 53 FR 38456.
Navajo sedge | Carex specuicola | T | AZ, UT | 50 FR 19370.
Nellie cory cactus | Coryphantha minima | E | TX | 44 FR 64738.
Noel's amphipod | Gammarus desperatus | E | NM | 70 FR 46303.
Pecos assiminea snail | Assiminea pecos | E | NM, TX | 70 FR 46303.
Pecos gambusia | Gambusia nobilis | E | NM, TX | 35 FR 16047.
Roswell springsnail | Pyrgulopsis roswellensis | E | NM | 70 FR 46303.
Texas poppy-mallow | Callirhoe scabriuscula | E | TX | 46 FR 3184.
Zapata bladderpod | Lesquerella thamnophila | E | TX | 64 FR 63745.

Definitions Related to This Notice

The following definitions are provided to assist those persons who contemplate submitting information regarding the species being reviewed:

A. Species includes any species or subspecies of fish, wildlife, or plant, and any distinct population segment of any species of vertebrate, which interbreeds when mature.

B. Endangered means any species that is in danger of extinction throughout all or a significant portion of its range.

C. Threatened means any species that is likely to become an endangered species within the foreseeable future throughout all or a significant portion of its range.

How do we determine whether a species is endangered or threatened?

Section 4(a)(1) of the Act establishes that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Section 4(a)(1) of the Act requires that our determination be made on the basis of the best scientific and commercial data available.

What could happen as a result of this review?

If we find that there is new information concerning any of the 23 species listed in Table 1 indicating a change in classification may be warranted, we may propose a new rule that could do one of the following: (a) Reclassify the species from endangered to threatened; (b) reclassify the species from threatened to endangered; or (c) remove the species from the List. If we determine that a change in classification is not warranted, then these species will remain on the List under their current status.

Public Comments

Submit information regarding the Canelo Hills ladies'-tresses (Spiranthes delitescens), Gila chub (Gila intermedia), Huachuca water-umber (Lilaeopsis schaffneriana var. recurva), and Navajo sedge (Carex specuicola) to the Field Supervisor, Attention 5-year Review, U.S. Fish and Wildlife Service, Arizona Ecological Services Field Office, 2321 West Royal Palm Road, Suite 103, Phoenix, AZ 85021. The office phone number is 602-242-0210.

Submit information regarding the bunched cory cactus (Coryphantha ramillosa), Chisos Mountain hedgehog cactus (Echinocereus chisoensis var. chisoensis), Comanche Springs pupfish (Cyprinodon elegans), Davis' green pitaya (Echinocereus viridiflorus var. davisii), Little Aguja (=Creek) pondweed (Potamogeton clystocarpus), Lloyd's Mariposa cactus (Echinomastus ariposensis), Mexican long-nosed bat (Leptonycteris nivalis), Nellie cory cactus (Coryphantha minima), Pecos gambusia (Gambusia nobilis), and Texas poppy-mallow (Callirhoe scabriuscula) to the Field Supervisor, Attention 5-year Review, U.S. Fish and Wildlife Service, Austin Ecological Services Field Office, 10711 Burnet Road, Suite 200, Austin, Texas 78758. The office phone number is 512-490-0057.

Submit information regarding masked bobwhite (quail) (Colinus virginianus ridgwayi) to the Refuge Manager, Buenos Aires National Wildlife Refuge, P.O. Box 109, Sasabe, AZ 85633. The office phone number is 520-823-4251, extension 116.

Submit information regarding ashy dogweed (Notropis girardi) and Zapata bladderpod (Lesquerella thamnophila) to the Field Supervisor, Attention 5-year Review, U.S. Fish and Wildlife Service c/o TAMU-CC, Corpus Christi Ecological Services Field Office, 6300 Ocean Drive, Unit 5837, Corpus Christi, TX 78412. The office phone number is 361-994-9005.

Submit information regarding Gulf Coast jaguarundi (Herpailurus (=Felis) yagouaroundi cacomitli) to Jody Mays, Wildlife Biologist, Laguna Atascosa National Wildlife Refuge, P.O. Box 450, Rio Hondo, TX 78583. The office phone number is 956-748-3607.

Submit information regarding Koster's springsnail (Juturnia kosteri), Noel's amphipod (Gammarus desperatus), Pecos assiminea snail (Assiminea pecos), and Roswell springsnail (Pyrgulopsis roswellensis) to the Field Supervisor, Attention 5-year Review, U.S. Fish and Wildlife Service, New Mexico Ecological Services Field Office, 2105 Osuna Road, NE., Albuquerque, NM 87113. The office phone number is 505-346-2525.

Submit information regarding the Arkansas River shiner (Notropis girardi) to the Field Supervisor, Attention 5-year Review, U.S. Fish and Wildlife Service, Oklahoma Ecological Services Field Office, 222 S. Houston, Suite A, Tulsa, OK 74127. The office phone number is 918-581-7458.

Public Solicitation of New Information

We request any new information concerning the status of the 23 species listed in Table 1. See “What information is considered in the review?” heading for specific criteria. Information submitted should be supported by documentation such as maps, bibliographic references, methods used to gather and analyze the data, and/or copies of any pertinent publications, reports, or letters by knowledgeable sources. Before including your address, phone number, e-mail address, or other personal identifying information in your comments, you should be aware that your entire comment—including your personal identifying information—may be made publicly available at any time. While you can ask us in your comment to withhold your personal identifying information from public review, we cannot guarantee that we will be able to do so.

Authority

This document is published under the authority of the Endangered Species Act (16 U.S.C. 1531 et seq.).

Dated: January 30, 2009.
Brian A. Millsap,
Regional Director, Region 2.

[FR Doc. E9-2885 Filed 2-10-09; 8:45 am]

BILLING CODE 4310-55-P